DEPARTMENT OF HEALTH AND HUMAN SERVICES

Agency for Healthcare Research and Quality

Notice of Meetings

AGENCY: Agency for Healthcare Research and Quality (AHRQ), HHS.

ACTION: Notice of five AHRQ subcommittee meetings.

SUMMARY: The scientific peer review subcommittees listed below are part of AHRQ's Health Services Research Initial Review Group Committee. Grant applications are to be reviewed and discussed at these meetings. Each subcommittee meeting will commence in open session before closing to the public for the duration of the meeting. These meetings will be closed to the public in accordance with 5 U.S.C. App. 2 section 10(d), 5 U.S.C. section 552b(c)(4), and 5 U.S.C. section 552b(c)(6).

DATES: See below for dates of meetings:

1. Healthcare Effectiveness and Outcomes Research HEOR

Date: October 8, 2014 (Open from 8 a.m. to 8:30 a.m. on October 8th and closed for remainder of the meeting).

2. Health Care Research and Training (HCRT)

Date: October 16, 2014 (Open from 8 a.m. to 8:30 a.m. on October 16th and closed for remainder of the meeting).

3. Health System and Value Research (HSVR)

Date: October 16-17, 2014 (Open from 8 a.m. to 8:30 a.m. on October 16th and closed for remainder of the meeting).

4. Healthcare Information Technology Research (HITR)

Date: October 23-24, 2014 (Open from 8 a.m. to 8:30 a.m. on October 23rd and closed for remainder of the meeting).

5. Healthcare Safety and Quality Improvement Research (HSQR)

Date: November 5-6, 2014 (Open from 8 a.m. to 8:30 a.m. on November 5th and closed for remainder of the meeting).

ADDRESSES: Gaithersburg Marriott Washingtonian Center, 9751 Washingtonian Blvd., Gaithersburg, MD 20878.

FOR FURTHER INFORMATION CONTACT: (to obtain a roster of members, agenda or minutes of the pubic portions of the meetings): Mrs. Bonnie Campbell, Committee Management Officer, Office of Extramural Research Education and Priority Populations, AHRQ, 540 Gaither Road, Suite 2000, Rockville, Maryland 20850, Telephone (301) 427-1554.

SUPPLEMENTARY INFORMATION: In accordance with section 10(a)(2) of the Federal Advisory Committee Act (5 U.S.C. App. 2), AHRQ announces meetings of the scientific peer review groups listed above, which are subcommittees of AHRQ's Health Services Research Initial Review Group Committees. Each subcommittee meeting will commence in open session before closing to the public for the duration of the meeting. The subcommittee meetings will be closed to the public in accordance with the provisions set forth in 5 U.S.C. App. 2 section 10(d), 5 U.S.C. 552b(c)(4), and 5 U.S.C. 552b(c)(6). The grant applications and the discussions could disclose confidential trade secrets or commercial property such as patentable material, and personal information concerning individuals associated with the grant applications, the disclosure of which would constitute a clearly unwarranted invasion of personal privacy.

Agenda items for these meetings are subject to change as priorities dictate.

Dated: September 16, 2014.
Richard Kronick,
AHRQ Director.

[FR Doc. 2014-22701 Filed 9-24-14; 8:45 am]

BILLING CODE 4160-90-M